DEPARTMENT OF VETERANS AFFAIRS

Advisory Committee on Gulf War Veterans; Notice of Establishment

As required by section 9(a)(2) of the Federal Advisory Committee Act, the Department of Veterans Affairs hereby gives notice of the establishment of the Department of Veterans Affairs (VA) Advisory Committee on Gulf War Veterans. The Secretary of Veterans Affairs had determined that establishing the Committee is both necessary and in the public interest.

The Advisory Committee on Gulf War Veterans will advise the Secretary of Veterans Affairs on the full spectrum of health care and benefits issues that confront veterans who served in the Southwest Asia theater of operations during the 1990-1991 period of the Gulf War. The Committee will pay particular attention to issues that are unique to these veterans.

Committee members will be appointed by the Secretary of Veterans Affairs and will be selected from among knowledgeable experts, veterans, and others with special competence to evaluate the particular needs of veterans who served during the 1990-1991 period of the Gulf War. Members will include Gulf War veterans, medical professionals with expertise in Gulf War veterans' illnesses, environmental health experts, veterans service organization officials, and other appropriate individuals.

The Committee is expected to remain operational for 18 months after its first meeting. Prior to its termination, the Committee will submit to the Secretary a report containing recommendations on the delivery of VA benefits and services to Gulf War veterans.

Dated: February 29, 2008.
By the direction of the Secretary.
E. Philip Riggin,
Committee Management Officer.

[FR Doc. 08-956 Filed 3-5-08; 8:45 am]

BILLING CODE 8320-01-M